DEPARTMENT OF AGRICULTURE

Forest Service

Notice of Proposed New Fee Site; Federal Lands Recreation Enhancement Act, (Title VIII, Pub. L. 108-447)

AGENCY: Payette National Forest, Forest Service, USDA.

ACTION: Notice of Proposed New Fee Site.

SUMMARY: The Payette National Forest is proposing to charge a $85 fee at Burgdorf Rental Cabin from June 1 to October 15 and a $65 fee from October 16 to June 1 with no water available; a $65 fee at the Paddy Flat Rental Cabin; and a $65 fee at the Lake Fork Rental Cabin. Fees are assessed based on the level of amenities and services provided, cost of operations and maintenance, and market assessment. The fee is proposed and will be determined upon further analysis and public comment. Funds from fees would be used for the continued operation and maintenance and improvements of these rental cabins.

An analysis of the nearby private rental cabins with similar amenities shows that the proposed fees are reasonable and typical of similar sites in the area.

DATES: Comments will be accepted through March 30, 2013. New fees would begin July 2013.

ADDRESSES: Keith Lannom, Forest Supervisor, Payette National Forest, 800 West Lakeside Avenue, McCall, Idaho 83638.

FOR FURTHER INFORMATION CONTACT: Jane Cropp, Recreation Fee Coordinator, 208-634-0757. Information about proposed fee changes can also be found on the Payette National Forest Web site: http://www.fs.usda.gov/payette.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

Dated: October 2, 2012.
Keith B. Lannom,
Forest Supervisor, Payette National Forest.

[FR Doc. 2012-25102 Filed 10-11-12; 8:45 am]

BILLING CODE 3410-11-P